DEPARTMENT OF COMMERCE

National Oceanic and Atmospheric Administration

[I.D. 051602A]

Endangered and Threatened Species; Take of Anadromous Fish

AGENCY: National Marine Fisheries Service (NMFS), National Oceanic and Atmospheric Administration (NOAA), Commerce.

ACTION: Notice of availability of Draft Environmental Assessment (EA) and request for comments.

SUMMARY: Notice is hereby given of the availability of a draft EA for NMFS′ implementation of part of the Endangered Species Act (ESA) that it adopted for the 14 threatened salmon and steelhead Evolutionarily Significant Units (ESUs) identified in the SUPPLEMENTARY INFORMATION section. The action provides for limits on ESA prohibitions (Limits) for the various activities set out in the document. The draft EA is a programmatic EA that analyzes the impacts of implementing the Limit for routine road maintenance activities (RRM) of any state, city, county or port (Limit 10). This EA will form the basis for subsequent analyses of activities or programs that may be submitted pursuant to Limit 10. NMFS is furnishing this notification to allow other agencies and the public an opportunity to review and comment on the draft EA. All comments received will become part of the public record and will be available for review.

DATES: Written comments on the draft EA must be received at the appropriate address or fax number (see ADDRESSES) no later than 5 p.m. Pacific Standard Time on June 28, 2002.

ADDRESSES:

Written comments should be sent to Rosemary Furfey, Protected Resources Division, National Marine Fisheries Service, 525 N.E. Oregon Street, Suite 500, Portland, OR 97232-2737. Comments may also be sent via fax to 503-230-5441. Copies of the draft EA are available on the Internet at , http:www.nwr.noaa.gov/1salmon/salmesa/final4d.htm http://swr.nmfs.noaa.gov/salmon.htm, or from NMFS, Protected Resources Division, 525 N.E. Oregon Street, Suite 500, Portland, OR 97232-2737. Comments will not be accepted if submitted via email or the Internet.

FOR FURTHER INFORMATION CONTACT: Rosemary Furfey at phone number: 503-231-2149, facsimile: 503-230-5441, or e-mail: Rosemary.Furfey@noaa.gov.

SUPPLEMENTARY INFORMATION:

Species Covered in This Notice

The following species are covered in this Notice:

Chinook salmon (Oncorhynchus tshawytscha); threatened Puget Sound (PS), Lower Columbia River (LCR), and Upper Willamette River (UWR).

Coho salmon (Oncorhynchus kisutch); threatened Oregon Coast (OC).

Sockeye salmon (Oncorhynchus nerka); threatened Ozette Lake (OL).

Chum salmon (Oncorhynchus keta); threatened Hood Canal Summer-run (HCS) and Columbia River (CR).

Steelhead (Onchorynchus mykiss); threatened Snake River Basin (SRB), Central California Coast (CCC), South/Central California Coast (SCCC), Lower Columbia River (LCR), Central Valley, California (CVC), Middle Columbia River (MCR), and Upper Willamette River (UWR).

Background

National Environmental Policy Act (NEPA) requires that Federal agencies conduct an environmental analysis of their actions to determine if the actions may affect the human environment. Accordingly, before NMFS issued the ESA 4(d) rule for the 14 ESUs identified above it prepared a set of EAs in connection with this regulation and made a Finding of No Significant Impact (FONSI). Since the 4(d) rule came into effect on July 10, 2000, various governmental entities and the public have demonstrated interest in having their individual programs reviewed under Limit 10. With this increasing interest in using Limit 10, there is the possibility of increased effects as defined by NEPA. Thus, NMFS is conducting this subsequent NEPA analysis to determine the impacts of implementing Limit 10. States, counties, cities and ports conducting RRM activities would not be subject to ESA section 9 prohibitions provided that they perform the RRM activities using an RRM program that has been approved by NMFS as meeting the requirements of Limit 10.

NMFS is using a staged or sequential approach in its NEPA review of the implementation of Limit 10, and of any RRM that may be submitted under it. The first stage is this programmatic EA, which assesses the environmental impacts associated with just the implementation of Limit 10. It will form the basis for the second stage or subsequent NEPA analyses of NMFS′ actions regarding individual RRM programs submitted under Limit 10.

This draft EA analyzes three alternatives: (1) The no action alternative; the 4(d) rule with Limits is not implemented; no ESA section 9 prohibitions are in effect; (2) the proposed action alternative; the 4(d) Rule with section 9 prohibitions and Limit 10 is implemented; and (3) alternative 3; the 4(d) rule without Limit 10 is implemented.

Because the proposed action creates an optional ESA process, its effects are necessarily programmatic in nature. In other words, the only effects that the proposed action may generate are those associated with putting take prohibitions into place and establishing the Limit 10 option for NMFS’ approval of RRM programs. The proposed action does not address the possible effects of individual RRM programs because the actual effects, particularly the physical effects, associated with such programs cannot be measured at this point. Also it is impossible to anticipate what programs will be submitted to NMFS or approved by NMFS. During the second stage of NEPA review, NMFS will conduct further NEPA analyses when an RRM program is submitted to NMFS. These subsequent NEPA documents will present a summary of the issues addressed in this draft programmatic Limit 10 EA; as appropriate, incorporate by reference the analyses presented in this programmatic EA; and address any environmental effects of NMFS’ action regarding a specific RRM program.

This notice is provided pursuant to the NEPA regulations (40 CFR 1506.6). The final NEPA determinations will not be completed until after the end of the 30-day comment period and NMFS will fully consider all public comments during the comment period.

Dated: May 22, 2002.
Wanda Cain,
Acting Director, Office of Protected Resources, National Marine Fisheries Service.

[FR Doc. 02-13408 Filed 5-28-02; 8:45 am]

BILLING CODE 3510-22-S